DEPARTMENT OF STATE

[Delegation of Authority No. 588]

Delegation of Authority Under Presidential Proclamation (PP) Restricting the Entry of Foreign Nationals To Protect the United States From Foreign Terrorists and Other National Security and Public Safety Threats

By virtue of the authority vested in the Secretary of State by the laws of the United States, including Section 1 of the State Department Basic Authorities Act, as amended (22 U.S.C. 2651a) and the Presidential Proclamation of June 4, 2025, Restricting the Entry of Foreign Nationals to Protect the United States from Foreign Terrorists and Other National Security and Public Safety Threats, I hereby delegate to the Assistant Secretary for Consular Affairs, to the extent authorized by law, the authority under section 4(d) of said Presidential Proclamation to determine that travel by a foreign national would serve a United States national interest.

The Secretary, Deputy Secretary, Deputy Secretary for Management and Resources, and the Under Secretary for Management may exercise any function or authority delegated by this delegation.

This Delegation of Authority does not supersede or otherwise affect any other delegation of authority currently in effect and will be published in the Federal Register.

Dated: June 9, 2025.
Marco Rubio,
Secretary of State.

[FR Doc. 2025-13774 Filed 7-21-25; 8:45 am]

BILLING CODE 4710-06-P